DEPARTMENT OF TRANSPORTATION

Office of the Secretary

[Docket No. DOT-OST-2022-0019]

Renewal of Information Collection (OMB No. 2105-0520); Agency Requests for Reinstatement of a Previously Approved Information Collection(s): Uniform Administrative Requirements for Grants and Cooperative Agreements to State and Local Governments and for Grants and Cooperative Agreements With Institutions of Higher Education, and Other Nonprofit Organizations

ACTION: Notice and request for comments.

SUMMARY: The Department of Transportation (DOT) invites public comments about our intention to request the Office of Management and Budget (OMB) approval for a previously approved information collection. These forms include Application for Federal Assistance (SF-424), Federal Financial Report (SF-425), Request for Advance or Reimbursement (SF-270) and Outlay Report and Request for Reimbursement for Construction Programs (SF-271). We are required to publish this notice in the Federal Register by the Paperwork Reduction Act of 1995. A Federal Register Notice with a 60-day comment period soliciting comments on the following information collection was published on March 30th, 2022, in the Federal Register. No comments were received.

DATES: Comments must be submitted on or before July 5, 2022.

ADDRESSES: Written comments and recommendations for the renewal of information collection should be sent within 30 days of publication of this notice to www.reginfo.gov/public/do/PRAMain. Find this particular information collection by selecting “Currently under 30-day Review—Open for Public Comments” or by using the search function.

FOR FURTHER INFORMATION CONTACT: Audrey Clarke, Ph.D., Associate Director of the Financial Assistance Policy and Oversight Division, M-65, Office of the Senior Procurement Executive, Office of the Secretary, Room W83-313, Department of Transportation, 1200 New Jersey Avenue SE, Washington, DC 20590, (202) 366-4268.

SUPPLEMENTARY INFORMATION:

OMB Control Number: 2105-0520.

Title: Uniform Administrative Requirements, Cost Principles, and Audit Requirements for Federal Awards.

Form Numbers: SF-424, SF-425, SF-270, and SF-271.

Type of Review: Revision of a previously approved collection.

Background: This is to request the Office of Management and Budget's (OMB) renewed three-year approved clearance for the information collection, entitled, “Uniform Administrative Requirements, Cost Principles, and Audit Requirements for Federal Awards” OMB Control No 2105-0520, which is currently due to expire on July 31, 2022. This information collection involves the use of various forms necessary because of management and oversight responsibilities of the agency imposed by OMB Circular 2 CFR 200, Uniform Administrative Requirements, Cost Principles, and Audit Requirements for Federal Awards. The May 31, 2015, OMB Control Number is titled: Uniform Administrative Requirements, Cost Principles, and Audit Requirements for Federal Awards (OMB 2 CFR 200). These guidelines cover the following data collection standard forms (SF): Application for Federal Assistance (SF-424); Federal Financial Report (SF-425); Request for Advance or Reimbursement (SF-270); and Outlay Report & Request for Reimbursement for Construction Programs (SF-271).

The following adjustments have been made to the burden estimates. In 2019, the Department estimated a combined total of 1,758 respondents and 123,060 burden hours. The updated burden estimates have changed due to the Coronavirus AID Relief and Economic Security Act, the American Rescue Plan Act as well as the Infrastructure Investment and Jobs Act.

Respondents: Grantees.

Number of Respondents: 2,936.

Number of Responses: 11,740.

Total Annual Burden: 205,520.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information.

Authority: The Paperwork Reduction Act of 1995, Public Law 104-13; 44 U.S.C. Chapter 35, as amended; and 49 CFR 1:48.

Issued in Washington, DC, on May 27, 2022.
Audrey Clarke,
Associate Director, Financial Assistance Policy and Oversight, Office of the Senior Procurement Executive.

[FR Doc. 2022-11816 Filed 6-1-22; 8:45 am]

BILLING CODE 4910-9X-P